DEPARTMENT OF COMMERCE

Foreign-Trade Zones Board

[B-22-2018]

Foreign-Trade Zone 158—Vicksburg/Jackson, Mississippi; Application for Reorganization Under Alternative Site Framework

An application has been submitted to the Foreign-Trade Zones (FTZ) Board by the Greater Mississippi Foreign-Trade Zone, Inc., grantee of FTZ 158, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on April 10, 2018.

FTZ 158 was approved by the FTZ Board on April 11, 1989 (Board Order 430, 54 FR 15480 April 18, 1989) and expanded on March 8, 2005 (Board Order 1378, 70 FR 13449, March 21, 2005), on October 18, 2002 (Board Order 1864, 77 FR 65359-65360, October 26, 2012), and on May 23, 2013 (Board Order 1900, 78 FR 33340, June 4, 2013).

The current zone includes the following sites: Site 2 (2,242 acres)—Jackson International Airport Complex, 100 International Drive, Jackson; Site 10 (989 acres)—Airport Industrial Park, Air Park Road at Old Runway Road, Tupelo; Site 11 (277 acres)—South Green Industrial Complex, adjacent to U.S. Highway 45 and the Kansas City Southern Railroad, Tupelo; Site 14 (128 acres)—Burlington Northern Industrial Park, along U.S. Highway 78 (I-22) and MS Highway 178 Interchange, Tupelo; Site 15 (699 acres)—Harry A. Martin North Lee Industrial Complex, Intersection of U.S. Highway 45 and Pratts Road, Tupelo; Site 16 (284 acres)—Turner Industrial Park, U.S. Highway 45 and MS Highway 145 Interchange, Tupelo; Site 17 (540 acres)—Tupelo Industrial Park South, U.S. Highway 45 and Brewer Road Interchange, Tupelo; and, Site 18 (140 acres)—Central Mississippi Industrial Center, Interstate 55 and Gluckstadt Road, Gluckstadt and Madison.

The grantee's proposed service area under the ASF would be Claiborne, Hinds, Madison, Marshall, Pontotoc, Rankin, Tate, Warren and Washington Counties, Mississippi in their entirety, and portions of Lee and Tishomingo Counties, Mississippi, as described in the application. If approved, the grantee would be able to serve sites throughout the service area based on companies' needs for FTZ designation. The application indicates that the proposed service area is within and adjacent to the following Customs and Border Protection ports of entry: Vicksburg and Greenville, Mississippi; Memphis, Tennessee; and, Huntsville, Alabama.

The applicant is requesting authority to reorganize its existing zone to include all of the existing sites as “magnet” sites. The ASF allows for the possible exemption of one magnet site from the “sunset” time limits that generally apply to sites under the ASF, and the applicant proposes that Site 2 be so exempted. The application would have no impact on FTZ 158's previously authorized subzones.

In accordance with the FTZ Board's regulations, Qahira El-Amin of the FTZ Staff is designated examiner to evaluate and analyze the facts and information presented in the application and case record and to report findings and recommendations to the FTZ Board.

Public comment is invited from interested parties. Submissions shall be addressed to the FTZ Board's Executive Secretary at the address below. The closing period for their receipt is June 18, 2018. Rebuttal comments in response to material submitted during the foregoing period may be submitted during the subsequent 15-day period to July 2, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz. For further information, contact Qahira El-Amin at Qahira.El-Amin@trade.gov or (202) 482-5928.

Dated: April 11, 2018.
Andrew McGilvray,
Executive Secretary.

[FR Doc. 2018-08119 Filed 4-17-18; 8:45 am]

BILLING CODE 3510-DS-P